DEPARTMENT OF DEFENSE

GENERAL SERVICES ADMINISTRATION

NATIONAL AERONAUTICS AND SPACE ADMINISTRATION

[OMB Control No. 9000-0163; Docket No. 2019-0003; Sequence No. 24]

Submission for OMB Review; Small Business Size Rerepresentation

AGENCIES: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision of a previously approved information collection requirement regarding small business size rerepresentation.

DATES: Submit comments on or before July 22, 2019.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Lois Mandell/IC 9000-0163, Small Business Size Rerepresentation.

Instructions: All items submitted must cite Information Collection 9000-0163, Small Business Size Rerepresentation. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Mahruba Uddowla, Procurement Analyst, at telephone 703-605-2868, or mahruba.uddowla@gsa.gov.

SUPPLEMENTARY INFORMATION:

A. OMB Number, Title, and any Associated Form(s)

OMB Control No. 9000-0163, Small Business Size Rerepresentation.

B. Needs and Uses

Federal Acquisition Regulation (FAR) 19.301 and the FAR clause at 52.219-28, Post-Award Small Business Program Rerepresentation, implement the Small Business Administration's (SBA's) regulation at 13 CFR 121.404(g), requiring that a concern that initially represented itself as small at the time of its initial offer must recertify its status as a small business under the following circumstances:

• Within thirty days of an approved contract novation;

• Within thirty days in the case of a merger or acquisition, where contract novation is not required; or

• Within 120 days prior to the end of the fifth year of a contract, and no more than 120 days prior to the exercise of any option thereafter.

The contracting officer at his or her discretion, may also request the contractor to rerepresent its status as a small business for individual task or delivery orders.

The implementation of SBA's regulation in FAR 19.301 and the FAR clause at 52.219-28 require that contractors rerepresent size status by updating their representations at the prime contract level in the Representations and Certifications section of the System for Award Management (SAM) and notifying the contracting officer that it has made the required update.

The purpose of implementing small business rerepresentations in the FAR is to ensure that small business size status is accurately represented and reported over the life of long-term contracts. The FAR also provides for provisions designed to ensure more accurate reporting of size status for contracts that are novated, or performed by small businesses that have merged with or been acquired by another business. This information is used by the SBA, Congress, Federal agencies and the general public for various reasons such as determining if agencies are meeting statutory goals, set-aside determinations, and market research.

C. Annual Burden

Total Annual Responses: 3,970.

Hours per Response: 0.5.

Total Burden Hours: 1,985.

D. Public Comment

A 60 day notice was published in the Federal Register at 81 FR 88072, on December 6, 2016. No comments were received on the burden calculation for this information collection.

Obtaining Copies: Requesters may obtain a copy of the information collection documents from the General Services Administration, Regulatory Secretariat Division (MVCB), 1800 F Street NW, Washington, DC 20405, telephone 202-501-4755. Please cite OMB Control No. 9000-0163, Small Business Size Rerepresentation, in all correspondence.

Dated: June 17, 2019.
Janet Fry,
Director, Federal Acquisition Policy Division, Office of Governmentwide Acquisition Policy, Office of Acquisition Policy, Office of Governmentwide Policy.

[FR Doc. 2019-13139 Filed 6-19-19; 8:45 a.m.]

BILLING CODE 6820-EP-P